DEPARTMENT OF ENERGY

Federal Energy Regulatory Commission

[Docket No. CP04-387-000]

Transcontinental Gas Pipe Line Corporation; Notice of Application for Abandonment

August 5, 2004.

Take notice that on July 29, 2004, Transcontinental Gas Pipe Line Corporation (Transco) filed with the Commission an application under section 7 of the Natural Gas Act to abandon a portion of the firm transportation service provided to Commission of Public Works, Laurens, South Carolina (Laurens) under Transco's Rate Schedule FT.

Transco states that under a service agreement dated February 1, 1992, Transco renders for Laurens firm transportation service under Transco's Rate Schedule FT. The service agreement sets forth the terms and conditions under which Transco provides firm transportation of 8,114 Dt of gas per day for Laurens. Transco explains that, although the firm transportation service is being rendered by Transco pursuant to Transco's blanket certificate authorization under part 284(G) of the Commission's regulations, Transco requires specific section 7(b) abandonment authorization because the subject FT service for Laurens was previously converted from firm sales service to firm transportation service under Transco's Rate Schedule FT pursuant to Transco's revised Stipulation and Agreement in Docket Nos. RP88-68, et al. Transco adds that the settlement provides that pre-granted abandonment shall not apply to such conversions (as further described in Article IV of the Service Agreement). Transco proposes to abandon 2,000 Dt/day of firm transportation service to Laurens effective November 1, 2004.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on August 20, 2004.

Magalie R. Salas,
Secretary.

[FR Doc. E4-1798 Filed 8-11-04; 8:45 am]

BILLING CODE 6717-01-P